DEPARTMENT OF HOMELAND SECURITY

Coast Guard

DEPARTMENT OF TRANSPORTATION

Maritime Administration

[USCG-2004-18474]

Pearl Crossing LNG Terminal LLC, Liquefied Natural Gas Deepwater Port License Application

AGENCY: Coast Guard, DHS; Maritime Administration, DOT.

ACTION: Notice.

SUMMARY: The Coast Guard and the Maritime Administration (MARAD) announce the cancellation of all actions related to the processing of a license application for the proposed Pearl Crossing LNG Terminal LLC deepwater port. The action announced here includes cancellation of all activities related to the preparation of an Environmental Impact Statement (EIS) that was announced on Monday, August 16, 2004, in Federal Register Volume 69 Number 157 (Notice of Intent to prepare an Environmental Impact Statement). The action is taken in response to the applicant's decision to withdraw the application.

DATES: The cancellation of all actions related to this license application was effective October 19, 2005.

ADDRESSES: The Docket Management Facility maintains the public docket for this project. The docket may be viewed electronically at http://dms.dot.gov under docket number USCG-2004-18474, or in person at the Docket Management Facility, U.S. Department of Transportation, 400 Seventh Street, SW., Room PL-401, Washington, DC 20590-0001.

FOR FURTHER INFORMATION CONTACT: If you have questions about the Pearl Crossing LLC Deepwater Port project, contact LCDR Derek Dostie, Deepwater Ports Standards Division, USCG at (202) 267-0662 or ddostie@comdt.uscg.mil.

SUPPLEMENTARY INFORMATION: On October 19, 2005, the Coast Guard and MARAD received notification from the applicant, Pearl Crossing LNG Terminal LLC, that it withdrew its application for a liquefied natural gas deepwater port with associated pipeline facilities 41 miles off the coast of Louisiana in lease block West Cameron number 220. Consequently, the Coast Guard and MARAD are terminating all activities relating to the application. Further information pertaining to this application may be found in the public docket (see ADDRESSES).

Dated: November 17, 2005.
Howard L. Hime,
Acting Director of Standards, Marine Safety, Security, and Environmental Protection, U.S. Coast Guard.
H. Keith Lesnick,
Senior Transportation, Specialist, Deepwater Ports Program Manager, U.S. Maritime Administration.

[FR Doc. E5-7029 Filed 12-7-05; 8:45 am]

BILLING CODE 4910-15-P